DEPARTMENT OF HEALTH AND HUMAN SERVICES

National Committee on Vital and Health Statistics: Meeting; Privacy, Security & Confidentiality Subcommittee

Pursuant to the Federal Advisory Committee Act, the Department of Health and Human Services (HHS) announces the following advisory committee meeting.

Name: National Committee on Vital and Health Statistics (NCVHS), Subcommittee on Privacy, Confidentiality & Security.

Time and Date: May 24, 2016, 9:00 a.m.-5:30 p.m. EST; May 25, 2016, 9:00 a.m.-5:15 p.m. EST.

Place: U.S. Department of Health and Human Services, Hubert H. Humphrey Building, 200 Independence Avenue, Room 705A, Washington, DC 20201, (202) 690-7100.

Status: Open.

Purpose: HIPAA sets forth methodologies for de-identifying protected health information (PHI). Once PHI is de-identified, it is no longer subject to the HIPAA rules and can be used for any purpose. The U.S. Department of Health and Human (HHS) Services Office for Civil Rights (OCR) issued guidance in 2012, specifying two ways through which a covered entity can determine that health information is de-identified: (1) The Expert Determination Method and (2) the Safe Harbor Method. Much has changed in the health care landscape since that time, including greater availability and use of “big data.” Concerns have been raised about the sufficiency of the HIPAA de-identification methodologies, the lack of oversight for unauthorized re-identification of de-identified data, and the absence of public transparency about the uses of de-identified data. The purpose of this hearing is to gather industry input on existing guidance and possible limitations of the de-identification methodologies for making recommendations to the Secretary of HHS.

The objectives of this meeting are as follows:

• Increase awareness of current and anticipated practices involving protected health information, such as the sale of information to data brokers and other data-mining companies for marketing and/or risk mitigation activities;

• Understand HIPAA's de-identification requirements in light of these practices, and

• Identify areas where outreach, education, technical assistance, a policy change, or guidance may be useful.

Contact Person for More Information: Rebecca Hines, Executive Secretary, NCVHS, National Center for Health Statistics, Centers for Disease Control and Prevention, 3311 Toledo Road, Hyattsville, Maryland 20782, telephone (301) 458-4715 or Rachel Seeger, OS/OCR, Room 443D, Department of Health and Human Services, 200 Independence Avenue SW., Washington, DC 20201, Phone: (202) 260-7106. Program information as well as summaries of meetings and a roster of committee members are available on the NCVHS home page of the HHS Web site: http://www.ncvhs.hhs.gov/, where further information including an agenda will be posted when available.

Should you require reasonable accommodation, please contact the CDC Office of Equal Employment Opportunity on 770-488-3204 as soon as possible.

Dated: April 12, 2016.
James Scanlon,
Deputy Assistant Secretary for Science and Data Policy, Office of the Assistant Secretary for Planning and Evaluation.

[FR Doc. 2016-09075 Filed 4-18-16; 8:45 am]

BILLING CODE 4151-05-P